DEPARTMENT OF COMMERCE

Bureau of Industry and Security

[Docket No. 041103305-4305-01]

National Defense Stockpile Market Impact Committee Request for Public Comments on the Potential Market Impact of Proposed Stockpile Disposals in FY 2005 and FY 2006

AGENCY: Bureau of Industry and Security, Department of Commerce.

ACTION: Notice of inquiry.

SUMMARY: The purpose of this notice is to advise the public that the National Defense Stockpile Market Impact Committee (co-chaired by the Departments of Commerce and State) is seeking public comments on the potential market impact of proposed changes in the disposal levels of excess materials under the Fiscal Year 2005 Annual Materials Plan and proposed disposal levels under the Fiscal Year 2006 Annual Materials Plan. Comments received in response to this notice will be taken into consideration by the National Defense Stockpile Market Impact Committee when it meets to discuss recommendations to the National Defense Stockpile Manager regarding the disposition of materials in the National Defense Stockpile.

DATES: Comments must be received by December 17, 2004.

ADDRESSES: Written comments should be sent to William J. Denk, Co-chair, Stockpile Market Impact Committee, Office of Strategic Industries and Economic Security, Room 3876, Bureau of Industry and Security, U.S. Department of Commerce, 14th Street and Constitution Avenue, NW., Washington, DC 20230; fax: (202) 482-5650; e-mail: wdenk@bis.doc.gov.

FOR FURTHER INFORMATION CONTACT: Contact either Eddy Aparicio, Office of Strategic Industries and Economic Security, Bureau of Industry and Security, U.S. Department of Commerce, telephone: (202) 482-8234; e-mail: eaparici@bis.doc.gov; or E. James Steele, Co-chair, Stockpile Market Impact Committee, Office of Bilateral Trade Affairs, Bureau of Economic and Business Affairs, U.S. Department of State, fax: (202) 647-8758; e-mail: steeleej2@state.gov.

SUPPLEMENTARY INFORMATION: Under the authority of the Strategic and Critical Materials Stock Piling Act of 1979, as amended, (50 U.S.C. 98 et seq.), the Department of Defense (“DOD”), as National Defense Stockpile Manager, maintains a stockpile of strategic and critical materials to supply the military, industrial, and essential civilian needs of the United States for national defense. Section 3314 of the Fiscal Year (“FY”) 1993 National Defense Authorization Act (“NDAA”) (50 U.S.C. 98h-1) formally established a Market Impact Committee (“the Committee”) to “advise the National Defense Stockpile Manager on the projected domestic and foreign economic effects of all acquisitions and disposals of materials from the stockpile * * *.” The Committee must also balance market impact concerns with the statutory requirement to protect the Government against avoidable loss.

The Committee is comprised of representatives from the Departments of Commerce, State, Agriculture, Defense, Energy, Interior, Treasury, and Homeland Security, and is co-chaired by the Departments of Commerce and State. The FY 1993 NDAA directs the Committee to “consult from time to time with representatives of producers, processors and consumers of the types of materials stored in the stockpile.”

In Attachment 1, the Defense National Stockpile Center (DNSC) lists the current quantities in the stockpile inventory, the previously approved FY 2005 AMP quantities for five materials, and the proposed revisions to the FY 2005 AMP for five materials. In Attachment 2, the proposed quantities for the FY 2006 AMP are enumerated. The Committee is seeking public comments on the potential market impact of the sale of these materials.

The quantities listed in Attachments 1 and 2 are not disposal or sale target quantities. They are only a statement of the proposed maximum disposal quantity of each listed material that may be sold in a particular fiscal year by the DNSC. The quantity of each material that will actually be offered for sale will depend on the market for the material at the time of the offering as well as on the quantity of each material approved for disposal by Congress.

The Committee requests that interested parties provide written comments, supporting data and documentation, and any other relevant information on the potential market impact of the sale of these commodities. Although comments in response to this Notice must be received by December 17, 2004 to ensure full consideration by the Committee, interested parties are encouraged to submit comments and supporting information at any time thereafter to keep the Committee informed as to the market impact of the sale of these commodities. Public comments are an important element of the Committee's market impact review process.

Public comments received will be made available at the Department of Commerce for public inspection and copying. Anyone submitting business confidential information should clearly identify the business confidential portion of the submission and also provide a non-confidential submission that can be placed in the public record. The Committee will seek to protect such information to the extent permitted by law.

The records related to this Notice will be made accessible in accordance with the regulations published in part 4 of title 15 of the Code of Federal Regulations (15 CFR 4.1, et seq.). Specifically, the Bureau of Industry and Security's Freedom of Information Act (FOIA) reading room is located on its Web site found at http://www.bis.doc.gov/foia/default.htm. Copies of the public comments received will be maintained on the Web site. If requesters cannot access the Web site, they may call (202) 482-2165 for assistance.

Dated: November 12, 2004.
Peter Lichtenbaum,
Assistant Secretary for Export Administration.

Attachment 1

Proposed Revisions to FY 2005 Annual Materials Plan
Material | Unit | Current FY 2005 (quantity) | Previously approved FY 2005 (quantity) | Proposed revised FY 2005 (quantity)
Aluminum Oxide, Abrasive | ST | 6,000 |  |
Bauxite, Metallurgical Jamaican | LDT | 0 | ³ 2,000,000 |
Bauxite, Metallurgical Surinam | LDT | 0 |  | ³ 400,000
Bauxite, Refractory | LCT | ¹ 43,000 |  |
Beryl Ore | ST | ¹ 4,000 |  |
Beryllium Metal | ST | 40 |  |
Beryllium Copper Master Alloy | ST | ¹ 1,200 |  |
Cadmium | LB | ¹ 0 |  |
Celestite | SDT | 6,000 |  |
Chromite, Chemical | SDT | ² 100,000 |  |
Chromite, Refractory | SDT | ² 100,000 |  |
Chromium, Ferro | ST | 110,000 |  |
Chromium, Metal | ST | 500 |  |
Cobalt | LB Co | 6,000,000 |  |
Columbium Concentrates | LB Cb | ² 560,000 |  |
Columbium Metal Ingots | LB Cb | ² 20,000 |  |
Diamond Stone | ct | ² 400,000 |  | ¹ ² 520,000
Fluorspar, Acid Grade | SDT | 12,000 |  |
Fluorspar, Metallurgical Grade | SDT | 60,000 |  |
Germanium | Kg | ² 8,000 |  |
Graphite | ST | 0 |  | ¹ 60
Iodine | LB | 1,000,000 |  |
Jewel Bearings | PC | ¹ 82,051,558 |  |
Kyanite | SDT | 0 |  |
Lead | ST | ¹ 60,000 |  |
Manganese, Battery Grade, Natural | SDT | 30,000 |  |
Manganese, Battery Grade, Synthetic | SDT | ¹ 3,011 |  |
Manganese, Chemical Grade | SDT | ¹ 40,000 |  |
Manganese, Ferro | ST | 50,000 | ² 100,000 |
Manganese, Metal, Electrolytic | ST | ¹ 2,000 |  |
Manganese, Metallurgical Grade | SDT | 250,000 | ³ 500,000 |
Mica, All | LB | ¹ 1,000,000 |  |
Palladium | Tr Oz | ² 100,000 |  |
Platinum | Tr Oz | ² 25,000 |  |
Platinum—Iridium | Tr Oz | 6,000 |  |
Quartz Crystals | Lb | ¹ 25,000 |  |
Quinidine | OZ | 0 |  | ⁴ 21,000
Sebacic Acid | LB | ¹ 600,000 |  |
Talc | ST | ¹ 1,000 |  |
Tantalum Carbide Powder | LB Ta | ² 4,000 |  |
Tantalum Metal Ingots | LB Ta | ¹ 40,000 |  |
Tantalum Metal Powder | LB Ta | ² 40,000 |  |
Tantalum Minerals | LB Ta | ² 500,000 |  |
Tantalum Oxide | LB Ta | ² 20,000 |  |
Thorium | LB | 7,100,000 |  |
Tin | MT | 12,000 |  |
Titanium Sponge | ST | ¹ 7,000 |  |
Tungsten Ferro | LB W | ² 300,000 |  |
Tungsten Metal Powder | LB W | ² 300,000 |  |
Tungsten Ores & Concentrates | LB W | ² 4,000,000 | ² 5,000,000 |
VTE, Chestnut | LT | ¹ 250 |  | ¹ 500
VTE, Quebracho | LT | 20,000 | 6,000 |
VTE, Wattle | LT | ¹ 6,500 |  |
Zinc | ST | 50,000 |  |
¹ Actual quantity will be limited to remaining inventory.
² Actual quantity will be limited to remaining sales authority. Additional sales authority is pending with Congress.
³ Represents inventory sold by DNSC, but not yet shipped.
⁴ Proposed for disposal by DNSC.

Attachment 2

Proposed FY 2006 Annual Materials Plan
Material | Unit | FY2006 (quantity)
Aluminum Oxide, Abrasive | ST | ¹ 6,000
Bauxite, Metallurgical Jamaican | LDT | ³ 2,000,000
Bauxite, Metallurgical Surinam | LDT | ³ 400,000
Bauxite, Refractory | LCT | ³ 43,000
Beryl Ore | ST | ³ 4,000
Beryllium Metal Vacuum Cast | ST | ³ 40
Beryllium Copper Master Alloy | ST | ³ 1,200
Celestite | SDT | 6,000
Chromite, Chemical | SDT | ³ 100,000
Chromite, Refractory | SDT | ³ 100,000
Chromium, Ferro | ST | 110,000
Chromium, Metal | ST | 500
Cobalt | LB Co | ¹ 6,000,000
Columbium Concentrates | LB Cb | ² 560,000
Columbium Metal Ingots | LB Cb | ² 20,000
Diamond Stone | ct ¹ ² | 520,000
Fluorspar, Acid Grade | SDT | ¹ 12,000
Fluorspar, Metallurgical Grade | SDT | ¹ 60,000
Germanium | Kg | 8,000
Graphite | ST | ¹ 60
Iodine | LB | 1,000,000
Jewel Bearings | PC | ¹ 82,051,558
Lead | ST | ¹ 60,000
Manganese, Battery Grade, Natural | SDT | ¹ 30,000
Manganese, Battery Grade, Synthetic | SDT | ¹ 3,011
Manganese, Chemical Grade | SDT | ¹ 40,000
Manganese, Ferro | ST | ² 100,000
Manganese, Metal, Electrolytic | ST | ³ 2,000
Manganese, Metallurgical Grade | SDT | 500,000
Mica, All | LB | ¹ 1,000,000
Palladium | Tr Oz | ¹ 100,000
Platinum | Tr Oz | ¹ 25,000
Platinum—Iridium | Tr Oz | 6,000
Quartz crystals | Lb | ³ 25,000
Quinidine | OZ | ⁴ 21,000
Talc | ST | ¹ 1,000
Tantalum Carbide Powder | LB Ta | ² 4,000
Tantalum Metal Ingots | LB Ta | ¹ 40,000
Tantalum Metal Powder | LB Ta | ¹ 40,000
Tantalum Minerals | LB Ta | ² 500,000
Tantalum Oxide | LB Ta | ² 20,000
Thorium | LB | 7,100,000
Tin | MT | 12,000
Titanium Sponge | ST | 7,000
Tungsten Ferro | LB W | ² 300,000
Tungsten Metal Powder | LB W | ² 300,000
Tungsten Ores & Concentrates | LB W | ² 5,000,000
VTE, Chestnut | LT | ¹ 500
VTE, Quebracho | LT | 6,000
VTE, Wattle | LT | ¹ 6,500
Zinc | ST | 50,000
¹ Actual quantity will be limited to remaining inventory.
² Actual quantity will be limited to remaining sales authority. Additional sales authority is pending with Congress.
³ Represents inventory sold, but not yet shipped.
⁴ Proposed for disposal by DNSC.

[FR Doc. 04-25492 Filed 11-16-04; 8:45 am]

BILLING CODE 3510-JT-P